DEPARTMENT OF TRANSPORTATION

Federal Aviation Administration

14 CFR Part 39

[Docket No. FAA-2011-0724; Directorate Identifier 2010-NM-181-AD]

RIN 2120-AA64

Airworthiness Directives; The Boeing Company Airplanes

AGENCY: Federal Aviation Administration (FAA), DOT.

ACTION: Supplemental notice of proposed rulemaking (NPRM); reopening of comment period.

SUMMARY: We are revising an earlier proposed airworthiness directive (AD) for certain The Boeing Company Model 757-200, -200PF, and -200CB series airplanes powered by Rolls-Royce engines. That NPRM proposed to supersede an existing AD that requires repetitive inspections of the shim installation between the drag brace fitting vertical flange and bulkhead, and repair if necessary; for certain airplanes, an inspection for cracking of the four critical fastener holes in the horizontal flange, and repair if necessary; and, for airplanes without conclusive records of previous inspections, performing the existing actions. That NPRM proposed to reduce the repetitive inspection interval, add repetitive detailed inspections for cracking of the bulkhead, and repair if necessary; extend the repetitive intervals for certain airplanes by also doing repetitive ultrasonic inspections for cracking of the bulkhead, and repair if necessary; and an option for the high frequency eddy current inspection for cracking of the critical fastener holes, and repair if necessary. That NPRM was prompted by reports of loose fasteners and cracks at the joint common to the aft torque bulkhead and strut-to-diagonal brace fitting, and one report of such damage occurring less than 3,000 flight cycles after the last inspection. This action revises that NPRM by adding a terminating action for certain repetitive inspections. We are proposing the supplemental NPRM to detect and correct cracks, loose and broken bolts, and shim migration in the joint between the aft torque bulkhead and the strut-to-diagonal brace fitting, which could result in damage to the strut and consequent separation of the strut and engine from the airplane. Since these actions impose an additional burden over that proposed in the NPRM, we are reopening the comment period to allow the public the chance to comment on these proposed changes.

DATES: We must receive comments on the supplemental NPRM by August 6, 2012.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact Boeing Commercial Airplanes, Attention: Data & Services Management, P.O. Box 3707, MC 2H-65, Seattle, WA 98124-2207; phone: 206-544-5000, extension 1; fax: 206-766-5680; Internet: https://www.myboeingfleet.com. You may review copies of the referenced service information at the FAA, Transport Airplane Directorate, 1601 Lind Avenue SW., Renton, WA. For information on the availability of this material at the FAA, call 425-227-1221.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Nancy Marsh, Aerospace Engineer, Airframe Branch, ANM-120S, Seattle Aircraft Certification Office (ACO), FAA, 1601 Lind Avenue SW., Renton, Washington 98057-3356; phone: 425-917-6440; fax: 425-917-6590; email: Nancy.Marsh@faa.gov.

SUPPLEMENTARY INFORMATION:

Comments Invited

We invite you to send any written relevant data, views, or arguments about this proposed AD. Send your comments to an address listed under the ADDRESSES section. Include “Docket No. FAA-2011-0724; Directorate Identifier 2010-NM-181-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

We issued an NPRM to amend 14 CFR part 39 to supersede AD 2008-05-10, Amendment 39-15404 (73 FR 11347, March 3, 2008), to include an AD applies to certain The Boeing Company Model 757-200, -200PF, and -200CB series airplanes powered by Rolls-Royce engines. That NPRM was published in the Federal Register on August 24, 2011 (76 FR 52901). That NPRM proposed to continue to repetitive inspections of the shim installation between the drag brace fitting vertical flange and bulkhead, and repair if necessary; for certain airplanes, an inspection for cracking of the four critical fastener holes in the horizontal flange, and repair if necessary; and, for airplanes without conclusive records of previous inspections, performing the existing actions. Additionally, the existing AD requires that the existing action be performed on airplanes without conclusive records of previous inspections. That NPRM proposed to reduce the repetitive inspection interval, and add repetitive detailed inspections for cracking of the bulkhead, and repair if necessary. That NPRM proposed an option, for certain airplanes, to extend the repetitive intervals by also doing repetitive ultrasonic inspections for cracking of the bulkhead, and repair if necessary; and proposed an option to the high frequency eddy current inspection for cracking of the critical fastener holes, and repair if necessary.

Actions Since Previous NPRM (76 FR 52901, August 24, 2011) Was Issued

Since we issued the previous NPRM (76 FR 52901, August 24, 2011), new service information has been issued that specifies additional actions that are necessary to address the identified unsafe condition, and also describes a terminating action for the repetitive inspections on certain airplanes.

Comments

We gave the public the opportunity to comment on the previous NPRM (76 FR 52901, August 24, 2011). The following presents the comments received on the NPRM and the FAA's response to each comment.

Agreement With the Previous NPRM (76 FR 52901, August 24, 2011)

Continental Airlines (Continental) stated it concurs in general with previous NPRM (76 FR 52901, August 24, 2011) to mandate Boeing Alert Service Bulletin 757-54A0047, Revision 4, dated June 24, 2010, inspections.

Request To Reference Revised Service Information

Continental, UPS, European Air Transport Leipzig GmbH (EATL), and FedEx requested that the previous NPRM (76 FR 52901, August 24, 2011) be changed to include Boeing Alert Service Bulletin 757-54A0047, Revision 5, dated June 9, 2011. The commenters stated this revised service information includes a terminating action for the repetitive inspections.

We agree because Boeing Alert Service Bulletin 757-54A0047, Revision 5, dated June 9, 2011, includes terminating action to address the unsafe condition. Boeing Alert Service Bulletin 757-54A0047, Revision 5, dated June 9, 2011, describes procedures for certain airplanes for replacing the horizontal and vertical flange fasteners in the strut-to-diagonal brace fitting on the number 1 and number 2 struts with new fasteners, and doing related investigative and corrective actions if necessary. The related investigative action is an eddy current inspection for cracking of the critical fastener holes in the horizontal and vertical flange. The corrective action is contacting Boeing for repair instructions and doing the repair. We have changed this supplemental NPRM to refer to Boeing Alert Service Bulletin 757-54A0047, Revision 5, dated June 9, 2011, and have made the terminating action specified in this service information mandatory. We have also added paragraph (p) in this supplemental NPRM to provide credit for actions accomplished before the effective date of the AD using Boeing Alert Service Bulletin 757-54A0047, Revision 4, dated June 24, 2010.

Request To Include Alternative Method of Compliance (AMOC) in Previous NPRM (76 FR 52901, August 24, 2011)

Continental requested a paragraph be added to the previous NPRM (76 FR 52901, August 24, 2011) that approves accomplishment of the terminating modification specified in Boeing Alert Service Bulletin 757-54A0047, Revision 5, dated June 9, 2011, as an AMOC with the actions specified in paragraphs (g), (h), (l), (q), and (r) of the previous NPRM. The commenter did not provide any justification for this request.

We disagree with adding an AMOC provision to the supplemental NPRM. As previously stated, we are changing the supplemental NPRM to mandate the terminating action specified in Boeing Alert Service Bulletin 757-54A0047, Revision 5, dated June 9, 2011, which would terminate the inspections specified in paragraphs (g), (h), (j), and (m) of the supplemental NPRM for Group 1, Configuration 2 airplanes; and Group 2 airplanes; as identified in Boeing Alert Service Bulletin 757-54A0047, Revision 5, dated June 9, 2011. These supplemental NPRM paragraphs are the same paragraphs specified by the commenter (paragraphs (j) and (m) of the supplemental NPRM correspond to paragraphs (l) and (q) in the previous NPRM (76 FR 52901, August 24, 2011)). The commenter also included paragraph (r) of the previous NPRM (which is paragraph (n) in the supplemental NPRM); however, that paragraph is not pertinent since it provides the compliance times for paragraph (m) in the supplemental NPRM. Termination of the inspections specified in paragraphs (g), (h), (j), and (m) of this supplemental NPRM, through accomplishment of the modification required by paragraph (o) of this supplemental NPRM, has the same result as the AMOC requested by the commenter, since use of Boeing Alert Service Bulletin 757-54A0047, Revision 5, dated June 9, 2011, is being proposed. We have not changed the supplemental NPRM in this regard.

Request To Add Actions Specified in Revised Service Information

Boeing proposed language for three new paragraphs to the previous NPRM (76 FR 52901, August 24, 2011), which correspond to paragraphs (s), (t), and (u) of the previous NPRM, that would require certain actions specified in Boeing Alert Service Bulletin 757-54A0047, Revision 5, dated June 9, 2011. The actions in Boeing's proposed paragraphs included installation of larger diameter fasteners, as specified in Boeing Alert Service Bulletin 757-54A0047, Revision 5, dated June 9, 2011, “within 9,000 flight cycles or 54 months, whichever is earlier, after the effective date of the AD;” crack repair instructions for cracking found during the fastener modification; and termination of inspections required in paragraphs (h), (l)(2), and (q) of the previous NPRM.

We partially agree. We agree to refer to Boeing Alert Service Bulletin 757-54A0047, Revision 5, dated June 9, 2011, because it provides additional actions and a modification to address the unsafe condition for certain airplanes. We disagree with adding the specific paragraphs proposed by Boeing because we are issuing a supplemental NPRM that proposes to mandate Boeing Alert Service Bulletin 757-54A0047, Revision 5, dated June 9, 2011. Therefore, the paragraphs proposed by Boeing that specify installing larger diameter fasteners and the compliance time are unnecessary. We have not changed the supplemental NPRM in this regard.

Boeing also proposed a paragraph that defines the terminating action for the repetitive inspections required by paragraphs (h), (l)(2), and (q) of the previous NPRM (76 FR 52901, August 24, 2011). Part of the commenter's proposed terminating action paragraph for Group 1, Configuration 1 airplanes; and Group 2 airplanes; is unnecessary. Boeing Alert Service Bulletin 757-54A0047, Revision 5, dated June 9, 2011, specified in the supplemental NPRM, already includes this information. Additionally, the commenter's proposed terminating action paragraph stated that modification of the strut, in accordance with Boeing Alert Service Bulletin 757-54A0047, Revision 5, dated June 9, 2011, terminates the repetitive inspections of paragraphs (h), (l)(2), and (q) of the previous NPRM for Group 1, Configuration 1 airplanes.

We disagree with changing the supplemental NPRM to include this information as it is redundant to the information included in Boeing Alert Service Bulletin 757-54A0047, Revision 5, dated June 9, 2011. This service information defines Group 1, Configuration 1 airplanes, as airplanes that have not accomplished the modifiction described in Boeing Service Bulletin 757-54-0035, thus the signficance of the strut modification accomplishment is clearly specified. We have not changed the supplemental NPRM in this regard.

Request To Add an AMOC Into the Previous NPRM (76 FR 52901, August 24, 2011)

Boeing requested we add a paragraph to the previous NPRM (76 FR 52901, August 24, 2011) stating that inspections and repairs done in accordance with Boeing Alert Service Bulletin 757-54A0047, Revision 5, dated June 9, 2011, are an AMOC for the corresponding requirements of the AD. Boeing stated that the inspections and repairs for Boeing Alert Service Bulletin 757-54A0047, Revision 5, dated June 9, 2011, are equivalent to the corresponding inspections and repairs specified in Boeing Alert Service Bulletin 757-54A0047, Revision 4, dated June 24, 2010, and since Boeing Alert Service Bulletin 757-54A0047, Revision 5, dated June 9, 2011, is already published and in use by the operators, this would eliminate the need for a separate global AMOC for Boeing Alert Service Bulletin 757-54A0047, Revision 5, dated June 9, 2011, relative to this AD.

We partially agree. The previous NPRM (76 FR 52901, August 24, 2011) did reference Boeing Alert Service Bulletin 757-54A0047, Revision 4, dated June 24, 2010. We agree that the actions specified in Boeing Alert Service Bulletin 757-54A0047, Revision 5, dated June 9, 2011, are equivalent to the corresponding actions specified in Boeing Alert Service Bulletin 757-54A0047, Revision 4, dated June 24, 2010. However, as stated previously, the supplemental NPRM references Boeing Alert Service Bulletin 757-54A0047, Revision 5, dated June 9, 2011, eliminating the need for an AMOC. We have not changed the supplemental NPRM in this regard.

Explanation of Additional Changes Made to This Supplemental NPRM

We have revised certain headings throughout this supplemental NPRM.

The credit for previous accomplishment of the actions required by AD 2008-05-10, Amendment 39-15404 (73 FR 11347, March 3, 2008), specified in paragraphs (n) and (o) of the previous NPRM (76 FR 52901, August 24, 2011), has been moved to paragraph (p) of the supplemental NPRM.

We have revised the heading and wording for paragraphs (n) and (o) of this AD. This change does not affect the intent of those paragraphs.

We revised paragraph (l) of this supplemental NPRM to refer to paragraphs (b) and (d) of AD 2004-12-07, Amendment 39-13666 (69 FR 33561, June 16, 2004), instead of paragraphs (b) and (c) of AD 2004-12-07, because paragraph (d) of AD 2004-12-07 contains the inspection of the fastener holes and inspection of the fasteners common to the lower spar fitting and strut aft bulkhead. Paragraph (c) of AD 2004-12-07 is a preliminary inspection of the middle gusset of the inboard side load fitting. We also revised paragraph (p) of this supplemental NPRM to reference paragraph (d) of AD 2004-12-07, instead of paragraph (c) of AD 2004-12-07.

FAA's Determination

We are proposing this supplemental NPRM because we evaluated all the relevant information and determined the unsafe condition described previously is likely to exist or develop in other products of the same type design. Certain changes described above expand the scope of the original NPRM (76 FR 52901, August 24, 2011). As a result, we have determined that it is necessary to reopen the comment period to provide additional opportunity for the public to comment on this supplemental NPRM.

Proposed Requirements of the Supplemental NPRM

This supplemental NPRM would retain all the requirements of AD 2008-05-10, Amendment 39-15404 (73 FR 11347, March 3, 2008); reduce the repetitive inspection interval for cracking, and add repetitive detailed inspections for cracking of the bulkhead, and repair if necessary. This supplemental NPRM would also, for certain airplanes, add an option to extend the repetitive intervals by also doing repetitive ultrasonic inspections for cracking of the bulkhead, and repair if necessary; and add an option to the high frequency eddy current inspection for cracking of the critical fastener holes, and repair if necessary. This supplemental NPRM would also require replacing certain horizontal and vertical flange fasteners in the strut-to-diagonal brace fittings and accomplishing the actions specified in the service information described previously, except as discussed under “Differences Between the Supplemental NPRM and the Service Information.”

Differences Between the Supplemental NPRM and the Service Information

Boeing Alert Service Bulletin 757-54A0047, Revision 5, dated June 9, 2011, specifies to contact the manufacturer for instructions on how to repair certain conditions, but this supplemental NPRM would require repairing those conditions in one of the following ways:

• In accordance with a method that we approve; or

• Using data that meet the certification basis of the airplane, and that have been approved by the Boeing Commercial Airplanes Organization Designation Authorization (ODA) whom we have authorized to make those findings.

Accomplishment of the actions required in paragraph (o) of this supplemental NPRM would terminate the inspection requirements of paragraphs (g), (h), (j), and (m) of this supplemental NPRM for Group 1, Configuration 2 airplanes; and Group 2 airplanes; as identified in Boeing Alert Service Bulletin 757-54A0047, Revision 5, dated June 9, 2011.

Costs of Compliance

We estimate that this proposed AD affects 309 airplanes of U.S. registry.

We estimate the following costs to comply with this proposed AD:

Estimated Costs
Action | Labor cost | Parts cost | Cost per product | Cost on U.S. operators
Part I Inspection on fasteners and shims—vertical flange [retained actions from AD 2008-05-10, Amendment 39-15404 (73 FR 11347, March 3, 2008)] | 28 work-hours × $85 per hour = $2,380 per inspection cycle | $0 | $2,380 per inspection cycle | $735,420 per inspection cycle
Part II Inspection on fasteners—horizontal flange [retained actions from AD 2008-05-10, Amendment 39-15404 (73 FR 11347, March 3, 2008)] | 6 work-hours × $85 per hour = $510 per inspection cycle | 0 | $510 per inspection cycle | $157,590 per inspection cycle.
Part IV inspection on critical fasteners—horizontal flange [retained actions from AD 2008-05-10, Amendment 39-15404 (73 FR 11347, March 3, 2008)] | 6 work-hours × $85 per hour = $510 per inspection cycle | 0 | $510 per inspection cycle | $157,590 per inspection cycle.
Part II Additional inspection actions on fasteners—horizontal flange [new proposed action] | 10 work-hours × $85 per hour = $850 per inspection cycle | 0 | $850 per inspection cycle | $262,650 per inspection cycle.
Part IV inspection on critical fasteners—horizontal flange [new proposed action] | 8 to 22 work-hours × $85 per hour = $680 to $1,870 per inspection cycle | 0 | $680 to $1,870 per inspection cycle | $210,120 to $577,830 per inspection cycle.
Part V fastener replacement flange [new proposed action] | Up to 37 work-hours × $85 per hour = $3,145 per strut | 750 | Up to $3,895 per strut | Up to $1,203,555 per strut.

We have received no definitive data that would enable us to provide cost estimates for the on-condition actions specified in this proposed AD.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive (AD) 2008-05-10, Amendment 39-15404 (73 FR 11347, March 3, 2008), and adding the following new AD:

The Boeing Company: Docket No. FAA-2011-0724; Directorate Identifier 2010-NM-181-AD.

(a) Comments Due Date

The FAA must receive comments on this AD action by August 6, 2012.

(b) Affected ADs

This AD supersedes AD 2008-05-10, Amendment 39-15404 (73 FR 11347, March 3, 2008).

(c) Applicability

This AD applies to The Boeing Company Model 757-200, -200PF, and -200CB series airplanes; certificated in any category; line numbers 1 through 1048 inclusive; powered by Rolls-Royce engines.

(d) Subject

Joint Aircraft System Component (JASC)/Air Transport Association (ATA) of America Code 54, Nacelles/Pylons.

(e) Unsafe Condition

This AD was prompted by reports of loose fasteners and cracks at the joint common to the aft torque bulkhead and strut-to-diagonal brace fitting, and one report of such damage occurring less than 3,000 flight cycles after the last inspection. We are issuing this AD to detect and correct cracks, loose and broken bolts, and shim migration in the joint between the aft torque bulkhead and the strut-to-diagonal brace fitting, which could result in damage to the strut and consequent separation of the strut and engine from the airplane.

(f) Compliance

Comply with this AD within the compliance times specified, unless already done.

(g) Retained One-Time Inspection and Repair With Optional Inspection Method, With Reduced Repetitive Intervals and New Optional Inspection Method

This paragraph restates the one-time inspection and repair with optional inspection method required by paragraph (g) of AD 2008-05-10, Amendment 39-15404 (73 FR 11347, March 3, 2008), with reduced repetitive intervals, and a new optional inspection method, with revised service information. For airplanes identified in paragraphs (g)(1) and (g)(2) of this AD: Within 90 days after August 24, 2007 (the effective date of AD 2007-16-13, Amendment 39-15152 (72 FR 44753, August 9, 2007)), do a high frequency eddy current (HFEC) inspection for cracking of the four critical fastener holes in the horizontal flange and, before further flight, do all applicable repairs, in accordance with Part IV of the Accomplishment Instructions of Boeing Alert Service Bulletin 757-54A0047, Revision 3, dated June 27, 2007; Boeing Alert Service Bulletin 757-54A0047, Revision 4, dated June 24, 2010; or Boeing Alert Service Bulletin 757-54A0047, Revision 5, dated June 9, 2011; except as required by paragraph (i)(3) of this AD. As of the effective date of this AD, only Boeing Alert Service Bulletin 757-54A0047, Revision 5, dated June 9, 2011, may be used to accomplish the actions required by this paragraph. Doing an ultrasonic inspection for cracking of the fasteners, in accordance with Part IV of the Accomplishment Instructions of Boeing Alert Service Bulletin 757-54A0047, Revision 4, dated June 24, 2010; or Boeing Alert Service Bulletin 757-54A0047, Revision 5, dated June 9, 2011; is an acceptable method for compliance with the HFEC inspection requirement of this paragraph.

(1) Airplanes on which findings on the horizontal or vertical fasteners or the shims led to a rejection of any fastener during the actions specified in Boeing Alert Service Bulletin 757-54A0047, dated November 13, 2003; or Boeing Service Bulletin 757-54A0047, Revision 1, dated March 24, 2005.

(2) Airplanes that had equivalent findings prior to Boeing Alert Service Bulletin 757-54A0047, dated November 13, 2003, except for findings on airplanes identified as Group 1, Configuration 2, in Boeing Alert Service Bulletin 757-54A0047, Revision 3, dated June 27, 2007, that were prior to the incorporation of Boeing Service Bulletin 757-54-0035.

(h) Retained Repetitive Inspection and Repair, With Reduced Interval

This paragraph restates the repetitive inspection and repair required by paragraph (h) of AD 2008-05-10, Amendment 39-15404 (73 FR 11347, March 3, 2008), with reduced repetitive intervals and revised service information. At the applicable initial times specified in paragraph 1.E., “Compliance,” of Boeing Alert Service Bulletin 757-54A0047, Revision 3, dated June 27, 2007, except as required by paragraphs (i)(1) and (i)(2) of this AD: Do the inspections specified in paragraphs (h)(1), (h)(2), and (h)(3) of this AD, and before further flight, do all the applicable related investigative actions and repairs, by doing all the actions specified in Parts I and II of the Accomplishment Instructions of Boeing Alert Service Bulletin 757-54A0047, Revision 3, dated June 27, 2007; or by doing all the actions in Part I and in Step 2 of Part II of the Accomplishment Instructions of Boeing Alert Service Bulletin 757-54A0047 Revision 4, dated June 24, 2010, or Boeing Alert Service Bulletin 757-54A0047, Revision 5, dated June 9, 2011, except as required by paragraph (i)(3) of this AD. As of the effective date of this AD, only Boeing Alert Service Bulletin 757-54A0047, Revision 5, dated June 9, 2011, may be used to accomplish the actions required by this paragraph. Repeat the inspections required by this paragraph at the times specified in paragraph (h)(4) of this AD.

(1) Do detailed inspections of the shim installations between the vertical flange and bulkhead to determine if there are signs of movement.

(2) Do detailed inspections of the four fasteners in the vertical flange to determine if there are signs of movement or if there are gaps under the head or collar.

(3) Do detailed inspections of the fasteners that hold the strut to the horizontal flange of the strut-to-diagonal brace fitting to determine if there are signs of movement or if there are gaps under the head or collar.

(4) Repeat the inspections required by paragraph (h) of this AD at the earlier of the times specified in paragraphs (h)(4)(i) and (h)(4)(ii) of this AD. Thereafter, repeat the inspections at intervals not to exceed the applicable intervals specified in paragraph 1.E., “Compliance,” of Boeing Alert Service Bulletin 757-54A0047, Revision 5, dated June 9, 2011.

(i) At intervals not to exceed the applicable intervals specified in paragraph 1.E., “Compliance,” of Boeing Alert Service Bulletin 757-54A0047, Revision 3, dated June 27, 2007.

(ii) At intervals not to exceed the applicable intervals specified in paragraph 1.E., “Compliance,” of Boeing Alert Service Bulletin 757-54A0047, Revision 5, dated June 9, 2011; or within 90 days after the effective date of this AD; whichever occurs later.

(i) Retained Exceptions to Alert Service Bulletin Procedures

This paragraph restates the exceptions to alert service bulletin procedures required by paragraphs (i), (j), and (k) of AD 2008-05-10, Amendment 39-15404 (73 FR 11347, March 3, 2008), with revised service information.

(1) Where Boeing Alert Service Bulletin 757-54A0047, Revision 3, dated June 27, 2007, specifies a compliance time relative to “the date on this service bulletin,” this AD requires compliance within the corresponding specified time relative to the effective date of AD 2007-16-13, Amendment 39-15152 (72 FR 44753, August 9, 2007).

(2) Where Boeing Alert Service Bulletin 757-54A0047, Revision 3, dated June 27, 2007, specifies a compliance time relative to the “date of issuance of airworthiness certificate,” this AD requires compliance within the corresponding time relative to the date of issuance of the original standard airworthiness certificate or the date of issuance of the original export certificate of airworthiness.

(3) If any crack is found during any inspection required by this AD, and Boeing Alert Service Bulletin 757-54A0047, Revision 3, dated June 27, 2007; Boeing Alert Service Bulletin 757-54A0047, Revision 4, dated June 24, 2010; or Boeing Alert Service Bulletin 757-54A0047, Revision 5, dated June 9, 2011; specifies to contact Boeing for appropriate action: Before further flight, repair the crack using a method approved in accordance with the procedures specified in paragraph (q) of this AD.

(j) Retained Inspection/Repair for Airplanes for Which There Are No Conclusive Inspection Records

This paragraph restates the inspection/repair requirements for airplanes for which there are no conclusive inspection records, as required by paragraph (l) of AD 2008-05-10, Amendment 39-15404 (73 FR 11347, March 3, 2008), with revised service information. For airplanes for which there are no conclusive records showing no loose or missing fasteners during previous inspections done in accordance with the requirements of AD 2007-16-13, Amendment 39-15152 (72 FR 44753, August 9, 2007); or AD 2005-12-04, Amendment 39-14120 (70 FR 34313 June 14, 2005): Do the actions specified in paragraphs (j)(1) and (j)(2) of this AD, at the times specified in those paragraphs, as applicable.

(1) Within 90 days after March 18, 2008 (the effective date of AD 2008-05-10, Amendment 39-15404 (73 FR 11347, March 3, 2008)), do the actions specified in paragraph (g) of this AD, except as required by paragraph (i)(3) of this AD.

(2) At the applicable initial times specified in paragraph 1.E., “Compliance,” of Boeing Alert Service Bulletin 757-54A0047, Revision 3, dated June 27, 2007, do the actions specified in paragraph (h) of this AD, except as required by paragraphs (i)(2) and (k) of this AD. And, before further flight, do all applicable related investigative actions and repairs, by doing all the actions specified in Parts I and II of the Accomplishment Instructions of Boeing Alert Service Bulletin 757-54A0047, Revision 3, dated June 27, 2007; or in Part 1 and in Step 2 of Part II of the Accomplishment Instructions of Boeing Alert Service Bulletin 757-54A0047 Revision 4, dated June 24, 2010, or Boeing Alert Service Bulletin 757-54A0047, Revision 5, dated June 9, 2011, except as required by paragraph (i)(3) of this AD. As of the effective date of this AD, only Boeing Alert Service Bulletin 757-54A0047, Revision 5, dated June 9, 2011, may be used to accomplish the actions required by this paragraph. Repeat the actions specified in paragraph (h) of this AD at the times specified in paragraph (h)(4) of this AD.

(k) Retained Exception to Alert Service Bulletin Procedures

This paragraph restates the exception to alert service bulletin procedures required by paragraph (m) of AD 2008-05-10, Amendment 39-15404 (73 FR 11347, March 3, 2008). Where Boeing Alert Service Bulletin 757-54A0047, Revision 3, dated June 27, 2007, specifies a compliance time relative to “the date on this service bulletin,” this AD requires compliance within the corresponding specified time relative to the effective date of AD 2008-05-10.

(l) Retained Acceptable Method of Compliance With Certain Requirements of AD 2004-12-07, Amendment 39-13666 (69 FR 33561 June 16, 2004)

This paragraph restates an acceptable method of compliance with certain requirements of AD 2004-12-07, Amendment 39-13666 (69 FR 33561 June 16, 2004), specified by paragraph (p) of AD 2008-05-10, Amendment 39-15404 (73 FR 11347, March 3, 2008). Accomplishing the actions specified in paragraphs (g) and (h) of this AD terminates the requirements specified in paragraphs (b) and (d) of AD 2004-12-07.

(m) New Repetitive Inspections and Repair

At the applicable initial compliance times specified in paragraph (n) of this AD: Do the applicable actions specified in paragraph (m)(1) or (m)(2) of this AD, in accordance with Step 3 of Part II of the Accomplishment Instructions of Boeing Alert Service Bulletin 757-54A0047, Revision 4, dated June 24, 2010; or Boeing Alert Service Bulletin 757-54A0047, Revision 5, dated June 9, 2011. If no cracking is found, repeat the inspections thereafter at intervals not to exceed the applicable intervals specified in paragraph 1.E., “Compliance,” of the Accomplishment Instructions of Boeing Alert Service Bulletin 757-54A0047, Revision 5, dated June 9, 2011. If any crack is found during any inspection required by this paragraph, before further flight, repair the crack using a method approved in accordance with the procedures specified in paragraph (q) of this AD.

(1) For Group 1, Configuration 1 airplanes identified in Boeing Alert Service Bulletin 757-54A0047, Revision 5, dated June 9, 2011: Do the actions specified in paragraph (m)(1)(i) or (m)(1)(ii) of this AD.

(i) Do a detailed inspection for cracking of the bulkhead in the area around the access door cutout and around the critical fasteners in the horizontal flange.

(ii) Do a detailed inspection for cracking of the bulkhead in the area around the access door cutout and around the critical fasteners in the horizontal flange, and do an ultrasonic inspection for cracking of the bulkhead around the fasteners in the horizontal flange. Doing the actions in this paragraph extends the repetitive intervals of the inspections required by paragraph (n) of this AD.

(2) For Group 1, Configuration 2 airplanes; and Group 2 airplanes; identified in Boeing Alert Service Bulletin 757-54A0047, Revision 5, dated June 9, 2011: Do a detailed inspection for cracking of the bulkhead in the area around the access door cutout and around the critical fasteners in the horizontal flange.

(n) New Compliance Times for Paragraph (m) of This AD

At the applicable times specified in paragraphs (n)(1) and (n)(2) of this AD, do the actions required by paragraph (m) of this AD.

(1) For Group 1, Configuration 1 airplanes identified in Boeing Alert Service Bulletin 757-54A0047, Revision 5, dated June 9, 2011: At the later of the times specified in paragraph (n)(1)(i) or (n)(1)(ii) of this AD.

(i) Within 1,800 flight cycles after accomplishing the most recent inspection required by paragraph (h) or (j) of this AD.

(ii) Within 90 days after the effective date of this AD.

(2) For Group 1, Configuration 2 airplanes; and Group 2 airplanes; identified in Boeing Alert Service Bulletin 757-54A0047, Revision 5, dated June 9, 2011: At the later of the times specified in paragraph (n)(2)(i) or (n)(2)(ii) of this AD.

(i) Within 3,000 flight cycles after accomplishing the most recent inspection required by paragraph (h) or (j) of this AD.

(ii) Within 90 days after the effective date of this AD.

(o) New Terminating Action for Certain Airplanes: Fastener Replacement

For Group 1, Configuration 2 airplanes; and Group 2 airplanes; as identified in Boeing Alert Service Bulletin 757-54A0047, Revision 5, dated June 9, 2011: Within 9,000 flight cycles or 54 months after the effective date of this AD, whichever occurs first, replace the horizontal and vertical flange fasteners in the strut-to-diagonal brace fitting on the number 1 and number 2 struts with new fasteners and do all related investigative and applicable corrective actions, in accordance with the Accomplishment Instructions of Boeing Alert Service Bulletin 757-54A0047, Revision 5, dated June 9, 2011, except where Boeing Alert Service Bulletin 757-54A0047, Revision 5, dated June 9, 2011, specifies to contact Boeing for repair instructions, before further flight, repair using a method approved in accordance with the procedures specified in paragraph (q) of this AD. Do all related investigative and corrective actions before further flight. Accomplishment of the actions required in paragraph (o) of this AD terminates the inspection requirements of paragraphs (g), (h), (j), and (m) of this AD for Group 1, Configuration 2 airplanes; and Group 2 airplanes; as identified in Boeing Alert Service Bulletin 757-54A0047, Revision 5, dated June 9, 2011.

(p) Credit for Previous Actions

(1) Except for the actions specified in paragraphs (j), (m), and (o) of this AD, this paragraph provides credit for the actions required by paragraphs (g) and (h) of this AD, if those actions were done before March 18, 2008 (the effective date of AD 2008-05-10, Amendment 39-15404 (73 FR 11347, March 3, 2008), using Boeing Service Bulletin 757-54A0047, Revision 1, dated March 24, 2005; or Boeing Alert Service Bulletin 757-54A0047, Revision 2, dated January 31, 2007.

(2) This paragraph provides credit for the initial inspection required by paragraph (h) of this AD, if that inspection was done before June 29, 2005 (the effective date of AD 2005-12-04, Amendment 39-14120 (70 FR 34313, June 14, 2005)), using the actions required by paragraph (b) or (d), as applicable, of AD 2004-12-07, Amendment 39-13666 (69 FR 33561, June 16, 2004).

(q) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane and the approval must specifically refer to this AD.

(4) AMOCs approved previously in accordance with AD 2004-12-07, Amendment 39-13666 (69 FR 33561, June 16, 2004), are approved as AMOCs for the corresponding provisions of this AD.

(5) AMOCs approved previously in accordance with AD 2005-12-04, Amendment 39-14120 (70 FR 34313, June 14, 2005), are approved as AMOCs for the corresponding provisions of this AD.

(6) AMOCs approved previously in accordance with AD 2007-16-13, Amendment 39-15152 (72 FR 44753, August 9, 2007), are approved as AMOCs for the corresponding provisions of this AD.

(7) AMOCs approved previously in accordance with AD 2008-05-10, Amendment 39-15404 (73 FR 11347, March 3, 2008), are approved as AMOCs for the corresponding provisions of this AD.

(r) Related Information

(1) For more information about this AD, contact Nancy Marsh, Aerospace Engineer, Airframe Branch, ANM-120S, Seattle Aircraft Certification Office (ACO), FAA, 1601 Lind Avenue SW., Renton, Washington 98057-3356; phone 425-917-6440; fax 425-917-6590; email: Nancy.Marsh@faa.gov.

(2) For service information identified in this AD, contact Boeing Commercial Airplanes, Attention: Data & Services Management, P.O. Box 3707, MC 2H-65, Seattle, Washington 98124-2207; phone: 206-544-5000, extension 1; fax: 206-766-5680; Internet: https://www.myboeingfleet.com. You may review copies of the referenced service information at the FAA, Transport Airplane Directorate, 1601 Lind Avenue SW., Renton, Washington. For information on the availability of this material at the FAA, call 425-227-1221.

Issued in Renton, Washington, on June 14, 2012.
Kalene C. Yanamura,
Acting Manager, Transport Airplane Directorate, Aircraft Certification Service.

[FR Doc. 2012-15181 Filed 6-20-12; 8:45 am]

BILLING CODE 4910-13-P